DEPARTMENT OF AGRICULTURE

Natural Resources Conservaiton Service

TV-13a Oaks/Avery Canal Hydrologic Restoration Project, Iberia and Vermilion Parishes, LA

AGENCY: Natural Resources Conservation Service, USDA.

ACTION: Notice of finding of no significant impact.

SUMMARY: Pursuant to Section 102 (2) (C) of the National Environmental Policy Act of 1969; the Council on Environmental Quality Guidelines (40 CFR part 1500); and the Natural Resources Conservation Service Guidelines (7 CFR part 650); the Natural Resources Conservation Service, U.S. Department of Agriculture, gives notice that an environmental impact statement is not being prepared for the Oaks/Avery Canal Hydrologic Restoration Project, Iberia and Vermilion Parishes, Louisiana.

FOR FURTHER INFORMATION, CONTACT: Donald W. Gohmert, State Conservationist, Natural Resources Conservation Service, 3737 Government Street, Alexandria, Louisiana 71302; telephone (318) 473-7751.

SUPPLEMENTARY INFORMATION: The environmental assessment of the federally assisted action indicates that the project will not cause significant local, regional, or national impacts on the environment. As a result of these findings, Donald W. Gohmert, State Conservationist, has determined that preparation and review of an environmental impact statement is not needed for this project.

TV-13a Oaks/Avery Canal Hydrologic Restoration Project Notice of Finding of No Significant Impact

The project will minimize marsh loss which is attributed to saltwater intrusion, shoreline deterioration, and bankline erosion within the project area. This will be accomplished by the installation of 800 linear feet of bankline stabilization on Oaks Canal, 6,500 linear feet of bankline stabilization along the Gulf Intracoastal Waterway (GIWW), one (1) low sill weir structure at the “cowpath” and approximately 900 linear feet of bankline stabilization in a manmade channel east of Oaks Canal and north of GIWW, one (1) armored plug in a breach in the north bank of the Union Oil Canal, and 1,100 linear feet of spoilbank refurbishment on the Union Oil Canal.

The Notice of Finding of No Significant Impact (FONSI) has been forwarded to the Environmental Protection Agency and to various federal, state, and local agencies and interested parties. A limited number of copies of the FONSI are available to fill single copy requests at the above address. Basic data collected during the environmental assessment are on file and may be reviewed by contacting Donald W. Gohmert.

No administrative action on implementation of the proposal will be taken until 30 days after the date of this publication in the Federal Register.

Donald W. Gohmert,
State Conservationist.

[FR Doc. 02-911 Filed 1-14-02; 8:45 am]

BILLING CODE 3410-16-P